SECURITIES AND EXCHANGE COMMISSION

Sunshine Act Meetings

Notice is hereby given, pursuant to the provisions of the Government in the Sunshine Act, Pub. L. 94-409, that the Securities and Exchange Commission will hold the following meetings during the week of October 20, 2003: A Closed Meeting will be held on Tuesday, October 21, 2003 at 2 p.m., and an Open Meeting will be held on Wednesday, October 22, 2003 at 10 a.m., in Room 1C30, the William O. Douglas Room.

Commissioner Campos, as duty officer, determined that no earlier notice thereof was possible.

Commissioners, Counsel to the Commissioners, the Secretary to the Commission, and recording secretaries will attend the Closed Meeting. Certain staff members who have an interest in the matters may also be present.

The General Counsel of the Commission, or his designee, has certified that, in his opinion, one or more of the exemptions set forth in 5 U.S.C. 552b(c)(5), (7), (8), 9(B) and (10) and 17 CFR 200.402(a)(5), (7), (8), (9)(ii) and (10), permit consideration of the scheduled matters at the Closed Meeting.

Commissioner Campos, as duty officer, voted to consider the items listed for the closed meeting in a closed session.

The subject matter of the Closed Meeting scheduled for Tuesday, October 21, 2003 will be: Institution and settlement of administrative proceedings of an enforcement nature; Institution and settlement of injunctive actions; Formal orders of investigation; Regulatory matters regarding a financial institution; and Opinion.

The subject matter of the Open Meeting scheduled for Wednesday, October 22, 2003 will be:

1. The Commission will consider whether to propose new Rule 15a-5 under the Investment Company Act of 1940 (“Investment Company Act”). Proposed Rule 15a-5 would permit an investment adviser to manage an open-end investment company's (“fund”) assets without approval by fund shareholders, under certain conditions. The Commission also will consider whether to amend Form N-1A under the Investment Company Act and the Securities Act of 1933. The recommended amendments would include a requirement that any fund operating under the exemption in proposed Rule 15a-5 disclose that investment advisers may be hired without shareholder approval.

For further information, please contact Adam B. Glazer at (202) 942-0690.

2. The Commission will consider whether to adopt amendments to Rule 10b-18 (the safe harbor rule regarding issuer repurchases) under the Securities Exchange Act of 1934 (“Exchange Act”), and amendments to Regulations S-K and S-B under the Exchange Act, and Exchange Act Forms 10-Q, 10-QSB, 10-K, 10-KSB, 20-F (regarding foreign private issuers), and Form N-CSR under the Exchange Act and the Investment Company Act of 1940 that would require periodic disclosure of all issuer repurchases of equity securities, regardless of whether the repurchases are effected in accordance with Rule 10b-18.

For further information, please contact Joan Collopy or Elizabeth Sandoe at (202) 942-0772.

3. Proposed Regulation SHO.

The Commission will consider whether to propose for public comment new Regulation SHO regulating short sales under the Securities Exchange of 1934, which would replace current Rules 3b-3, 10a-1 and 10a-2. Among other things, Regulation SHO would institute a new uniform bid test, applicable to exchange-listed and Nasdaq National Market System securities, that would allow short sales to be effected at a price above the consolidated best bid. Regulation SHO would also suspend the operation of the proposed bid test for specified highly liquid securities on a two-year pilot basis. Regulation SHO would also require short sellers in all equity securities to locate securities to borrow before selling short, and add further requirements to address “naked” short selling.

The Commission will also consider simultaneously whether to propose for public comment amendments to Rule 105 of Regulation M, which addresses short sales prior to a public offering, to eliminate the shelf offering exception and to address transactions designed to evade the Rule.

Commission Guidance on Rule 3b-3 and Married Put Transactions

Finally, the Commission will also consider whether to publish simultaneously an interpretive release providing all market participants with guidance regarding the use of married put transactions when aggregating positions under Rule 3b-3 for determining compliance with Rule 10a-1 and Rule 105 of Regulation M.

For further information, please contact Kevin Campion or Greg Dumark at (202) 942-0772.

At times, changes in Commission priorities require alterations in the scheduling of meeting items. For further information and to ascertain what, if any, matters have been added, deleted or postponed, please contact:

The Office of the Secretary at (202) 942-7070.

Dated: October 15, 2003.
Jonathan G. Katz,
Secretary.

[FR Doc. 03-26585 Filed 10-16-03; 3:53 pm]

BILLING CODE 8010-01-P